DEPARTMENT OF THE INTERIOR

Bureau of Indian Affairs

25 CFR Part 151

Acquisition of Title to Land in Trust; Delay of Effective Date

AGENCY: Bureau of Indian Affairs, Interior.

ACTION: Delay of effective date of final rule; request for comments.

SUMMARY: This action temporarily delays for 120 days the effective date of the rule titled “Acquisition of Title to Land in Trust,” that we published in the Federal Register on January 16, 2001. We are extending the comment period in order to seek comments on whether the final rule should be amended in whole or in part or withdrawn in whole or in part.

DATES: The effective date of the Acquisition of Title to Land Trust rule, amending 25 CFR Part 151, published in the Federal Register of Tuesday, February 20, 2001, at 68 FR 10815, is delayed from April 16, 2001, to August 13, 2001. Comments must be received by June 15, 2001.

ADDRESSES: Submit comments on whether the final rule should be amended in whole or in part or withdrawn in whole or in part to: Terry Virden, Director, Office of Trust Responsibilities, MS 4513-MIB, 1849 C Street NW., Washington, DC 20240. You can also submit comments by electronic mail to: TerryVirden@bia.gov.

FOR FURTHER INFORMATION CONTACT: Terry Virden, Director, Office of Trust Responsibilities, Mail Stop: 4513-MIB, 1849 “C” Street NW., Washington, DC 20240; telephone 202-208-5831; electronic mail: TerryVirden@bia.gov.

SUPPLEMENTARY INFORMATION: This action temporarily delays for 120 days the effective date of the rule entitled “Acquisition of Title to Land in Trust,” published in the Federal Register on January 16, 2001, at 66 FR 3452. On February 5, 2001, the Department published an extension of the effective date of the amended rule from January 16, 2001, to March 17, 2001. 66 FR 8899. On February 20, 2001, the Department published a correction to the rule published on February 5th and corrected the delay effective date to April 16, 2001. 66 FR 10815. This document now extends the effective date of the final rule from April 16, 2001, an additional 120 days, to a new effective date of August 13, 2001, in order to seek comments on whether the final rule should be amended in whole or in part or withdrawn in whole or in part.

During the extension of the effective date of the final rule to April 16, the Department reviewed the rule and decided it should solicit public comments on whether to amend the rule in whole or in part or to withdraw the final rule in whole or in part. During this 120-day delay of the effective date of the final rule, the Department will seek comments for 60 days on whether the final rule should be withdrawn in whole or in part or amended in whole or in part. At the end of the 120 days, the Department will evaluate the comments received and make a determination on whether to amend the rule in whole or in part or to withdraw the final rule in whole or in part. Given the imminence of the effective date of the final rule, seeking prior public comment on this temporary delay would have been impractical, as well as contrary to the public interest in the orderly promulgation and implementation of regulations.

To the extend that 5 U.S.C. section 553 applies to this action, this extension of the comment period is exempt from notice and comment because it constitutes a rule of procedure under 5 U.S.C. section 553(b)(A). Alternatively, the Department's extension of the comment period without opportunity for public comment is based upon the good cause exceptions in 5 U.S.C. sections 553(b)(3)(B) and 553(d)(3), in that seeking public comment on the extension of the effective date is impractical, unnecessary and contrary to the public interest.

Dated: April 11, 2001.
James McDivitt,
Deputy Assistant Secretary—Indian Affairs (Management).

[FR Doc. 01-9382 Filed 4-13-01; 8:45 am]

BILLING CODE 4310-02-M